DEPARTMENT OF AGRICULTURE

Natural Resources Conservation Service

[Docket ID NRCS-2020-0001]

Notice of Proposed Revisions to the National Handbook of Conservation Practices for the Natural Resources Conservation Service

AGENCY: Natural Resources Conservation Service, USDA.

ACTION: Notice of availability; request for comment.

SUMMARY: The Natural Resources Conservation Service (NRCS) is giving notice that it intends to issue a series of revised conservation practice standards in the National Handbook of Conservation Practices (NHCP). NRCS is also giving the public an opportunity to provide comments on specified conservation practice standards in NHCP.

DATES: We will consider comments that we receive by April 23, 2020.

ADDRESSES: We invite you to submit comments on this notice. In your comments, include the volume, date, and page number of this issue of the Federal Register. Comments may be submitted by any of the following methods:

• Federal eRulemaking Portal: Go to http://www.regulations.gov and search for docket ID NRCS-2020-0001. Follow the instructions for submitting comments.

• Mail, or Hand Delivery: Mr. Bill Reck, National Environmental Engineer, Conservation Engineering Division, U.S. Department of Agriculture, NRCS, 1400 Independence Avenue, South Building, Room 6136, Washington, DC 20250.

NRCS will post all comments on http://www.regulations.gov.

The copies of the proposed revised standards are available through http://www.regulations.gov by accessing Docket No. NRCS-2020-0001. Alternatively, the proposed revised standards can be downloaded or printed from http://go.usa.gov/TXye.

FOR FURTHER INFORMATION CONTACT: Mr. Bill Reck, (202) 720-4485; or bill.reck@usda.gov.

SUPPLEMENTARY INFORMATION: NRCS State Conservationists who choose to adopt these practices in their States will incorporate these practices into the respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

The amount of the proposed changes varies considerably for each of the conservation practice standards addressed in this notice. To fully understand the proposed changes, individuals are encouraged to compare these changes with each standard's current version, which can be found at http://www.nrcs.usda.gov/wps/portal/nrcs/detailfull/national/technical/cp/ncps/?cid=nrcs143_026849.

NRCS is requesting comments on the following conservation practice standards: Access Road (Code 560); Amending Soil Properties with Gypsum Products (Code 333); Amendments for Treatment of Agricultural Waste (Code 591); Anionic Polyacrylamide (PAM) Application (Code 450); Aquaculture Pond (Code 397); Bivalve Aquaculture Gear and Biofouling Control (Code 400); Composting Facility (Code 317); Conservation Crop Rotation (Code 328); Cross Wind Trap Strips (Code 589); Dam (Code 402); Denitrifying Bioreactor (Code 605); Energy Efficient Building Envelope (Code 672); Energy Efficient Lighting System (Code 670); Field Operations Emissions Reduction (Code 376); Forage Harvest Management (Code 511); Grade Stabilization Structure (Code 410); Grassed Waterway (Code 412); Heavy Use Area Protection (Code 561); Herbaceous Weed Treatment (Code 315); Herbaceous Wind Barriers (Code 603); Irrigation Land Leveling (Code 464); Irrigation Pipeline (Code 430); Irrigation System, Microirrigation (Code 441); Irrigation Water Management (Code 449); Lined Waterway or Outlet (Code 468); Livestock Pipeline (Code 516); Livestock Shelter Structure (Code 576); Pasture and Hay Planting (Code 512); Prescribed Burning (Code 338); Pumping Plant (Code 533); Riparian Forest Buffer (Code 391); Rock Wall Terrace (Code 555); Row Arrangement (Code 557); Saline and Sodic Soil Management (Code 610); Saturated Buffer (Code 604); Spoil Disposal (Code 572); Spring Development (Code 574); Stormwater Runoff Control (Code 570); Streambank and Shoreline Protection (Code 580); Surface Drain, Field Ditch (Code 607); Terrace (Code 600); Trails and Walkways (Code 575); Tree/Shrub Site Preparation (Code 490); Underground Outlet (Code 620); Vegetative Barrier (Code 601); Water Harvesting Catchment (Code 636); Watering Facility (Code 614); Water Well (Code 642); and Well Decommissioning (Code 351).

The following are highlights of some of the proposed revisions to each standard:

Access Road (Code 560): The standard was changed to better accommodate local conditions and drainage issues.

Amending Soil Properties with Gypsum Products (Code 333): Deleted the word “derived” from the definition. Revised the Purpose section to reduce the wording and provide clarity. Added two purposes: Improve habitat for soil organisms and improve soil aggregate stability. Added new sentence to the Conditions Where Practice Applies section. Revised the Criteria section for active voice and clarity. Deleted the Additional Criteria to Reduce the Potential for Pathogen Transport. Wording change in the last sentence of the Additional Considerations to reduce dissolved phosphorus in surface water and ground water. Changed wording to active voice in the Operation and Maintenance section. Updated references in the Reference section.

Amendments for Treatment of Agricultural Waste (Code 591): Formatting and writing style were updated to meet current agency requirements. Minor revisions were made for clarity and readability purposes. The section on validation of the product better defines the criteria used by NRCS to determine what amendments are used under this standard. References were updated.

Anionic Polyacrylamide (PAM) Application (Code 450): Formatting and writing style were updated to meet current agency requirements. Moved the section “safety and health” from Consideration section to Criteria section.

Aquaculture Pond (Code 397): A purpose was added on reducing and managing discharges. Controlling invasive mollusks was added to the Criteria section. “Additional Criteria for Modifying Existing Aquaculture Ponds” was added. Considerations on pond sizing and lining for improved disease control were added.

Bivalve Aquaculture Gear and Biofouling Control (Code 400): There were no major changes to this standard. The definition was modified to add “risk to species of concern.” Two additional considerations were added regarding permits and licenses for beach access and operation of boats within shellfish operation. Plan map description was revised to reflect current ways to mark shellfish beds. A sub-bullet was added to record keeping in the Operation and Maintenance section. The References section was updated to delete outdated references and include new documents.

Composting Facility (Code 317): The format of the document was converted to the new template and some language was added on general benefits of composting within the Considerations and Operations and Maintenance sections. The compost facility standard language was changed to emphasize soil health. There was some clarification of the language of roof runoff collection and potential leachate from the compost. A technical requirement was added to the standard to limit stack height to address potential spontaneous combustion safety hazard.

Conservation Crop Rotation (Code 328): Minor edit to the definition to read “A planned sequence of crops grown in the same location over a period of time (i.e., the rotation cycle).” Added three new purposes (improve soil organic matter quality, improve soil aggregate stability, improve habitat for soil organisms) and associated criteria in response to the Farm Bill review. Removed the “Provide food and cover habitat for wildlife, including pollinators forage and nesting” purpose, as this is not a primary resource concern, but left the associated considerations section information. Removed reference to suitable substitute crops in the General Criteria section and added it as a bulleted item to the Plans and Specifications section. Added a new Consideration section titled “Considerations to Improve Soil Moisture.”

Cross Wind Trap Strips (Code 589): Reworded the Purpose section to clarify the purposes of the practice. Shortened the statement in the Conditions Where Practice Applies section. Edited the Considerations section to clarify the statements. Removed the Nutrient Application from the Plans and Specifications section. Formatting and writing style were updated to meet current agency requirements.

Dam (Code 402): Formatting and writing style were updated to meet current agency requirements. Minor revisions were made for clarity and readability purposes.

Denitrifying Bioreactor (Code 605): Minor revisions were made for clarity and readability purposes. Design criteria were simplified based on the latest research and field experience.

Energy Efficient Building Envelope (Code 672): This document has been revised extensively. The name has been changed from “Building Envelope Improvement” to “Energy Efficient Building Envelope” to better reflect the improved energy efficiency purpose. The standard has been rewritten to better focus on energy efficiency criteria, fire safety, flexibility, and industry standards. The requirement for an ASABE S612 Type 2 energy audit has been revised to allow other assessment methods. Criteria was added to support prescriptive upgrades to simplify and streamline implementation of some instances of the practice. Additions were made to the Criteria and Considerations sections for greenhouses.

Energy Efficient Lighting System (Code 670): This document has been revised extensively. The name has been changed from “Lighting System Improvement” to “Energy Efficient Lighting System” to better reflect the improved energy efficiency purpose. The standard has been rewritten to better focus on energy efficiency and energy conservation versus performance. The requirement for an American Society of Agricultural and Biological Engineers standard ASABE S612 Type 2 energy audit has been revised to allow other assessment methods. Criteria was added to support prescriptive upgrades to simplify and streamline implementation of some instances of the practice. Additions were made to the Criteria and Considerations sections for greenhouses and nurseries.

Field Operations Emissions Reduction (Code 376): Changed the definition to “Adjusting field operations and technologies to reduce emissions of particulate matter (PM) and oxides of nitrogen from field operations.” Added the additional purpose of reduce emissions of oxides of nitrogen to cover the expanded definition. Changed the “Condition Where Practice Applies” to “This practice applies to cropland” since another practice exists for performing these activities on other land uses and it is more appropriate to focus this practice on cropland.

Forage Harvest Management (Code 511): Most changes were minor in nature. Added content to reflect current agency policies and science. The definition was reworded for improved clarity. Two new purposes were added including “Optimizing soil microbial life and aggregate stability” and “Reduce soil compaction” to address soil health resource concerns. The remaining purposes were reworded slightly for improved clarity. New additional criteria for the two new purposes were added. Considerations section was reworded for improved clarity. Considerations section updated with valid new considerations. References were updated.

Grade Stabilization Structure (Code 410): Formatting and writing style were updated to meet current agency requirements. Minor revisions were made for clarity and readability purposes.

Grassed Waterway (Code 412): Minor revisions were made for clarity and readability purposes. Clarified the minimum design storm to use under the heading “Stability” in the Criteria section. Added clarification on the freeboard requirements in the Depth section of Criteria. Statements were added in the Considerations section on soil health management systems and organic agriculture to address comments received from the general Federal Register notice for review. Removed the requirement for a profile in the Plans and Specifications section to address a comment provided during the general Federal Register notice for review.

Heavy Use Area Protection (Code 561): Simplified the definition to provide more flexibility to standard. Added reduce soil erosion as a purpose. Added the wording of relocation or treatment under the Considerations section to allow more flexibility in addressing the heavy use area resource concern. Changed name of Additional Criteria sections to better fit purpose statement.

Herbaceous Weed Treatment (Code 315): One purpose statement was determined to be a duplicate and was deleted along with the additional criteria for that purpose. Terminology was changed to be consistent throughout the standard. An additional requirement was added to the Plans and Specifications section. A few wording changes were made for clarity and readability.

Herbaceous Wind Barriers (Code 603): Added a brief sentence to the definition. Renamed the first purpose from soil erosion to wind erosion. Edited the Criteria section for verbiage and clarity. Moved a requirement within the “Additional Criteria to Reduce Wind Erosion and Particulate Matter Emissions” to “General Criteria.” Edited the Considerations section for verbiage. Listed the items in the Operation and Maintenance section as bulleted items.

Irrigation Land Leveling (Code 464): Formatting and writing style were updated to meet current agency requirements. Added text to Criteria section to include responsibilities of the landowner and contractor to follow laws and regulations, obtain all necessary permits, and locate all utilities. Modified the standard to provide clarity to some requirements.

Irrigation Pipeline (Code 430): Formatting and writing style were updated to meet current agency requirements. Supplementary ASTM references added. Maximum pressure relief valve activation pressure established to allow for congruency between industry standard practice, sound engineering practice, and NRCS Conservation Practice Standard. Requirement to install backflow prevention devices where chemicals are added in accordance with responsible governing body has been established.

Irrigation System, Microirrigation (Code 441): Wording changes were made for clarity and readability. Provisions made for deficit irrigation. Standardized wording for injection of chemicals.

Irrigation Water Management (Code 449): Wording changes were made for clarity and readability. Remote telemetry data systems with cloud-based irrigation scheduling capabilities were added to the standard. Four supplementary publications were added to the References section corresponding to cutting-edge science-based technology. “Condition Where Practice Applies” section was simplified by removing policy statements. Criteria section was reordered to clarify criteria to use for timing of irrigation events and criteria to use for the volume of irrigation events.

Lined Waterway or Outlet (Code 468): Added tractive stress as design method based on a literature review. Updated References section.

Livestock Pipeline (Code 516): Revised language as needed to improve readability and clarity of the standard. No major technical changes were made, except the secondary purpose of “Develop renewable energy systems” was removed.

Livestock Shelter Structure (Code 576): The definition and purpose for the standard made it clear that this practice is to protect animals from negative environmental factors and to improve the distribution of grazing animals. Provided clarity of minimum space needed based on specific animal type. Regarding wind shelters, provided guidance on stability analysis to ensure safety of producers and livestock. Multiple changes and additions were made throughout the standard.

Pasture and Hay Planting (Code 512): The name was changed from “Forage and Biomass Planting” to “Pasture and Hay Planting” to better convey NRCS' intending purpose of the practice. Changes were made to reflect current agency policy and science. Air quality was added as a Purpose. “Produce feedstock for biofuel production” was removed as a purpose. The purpose “Improve soil and water quality” was split into two purposes, “Improve water quality” and “Improve Soil Health.” The General Criteria section was updated to reflect the use of ecological site descriptions and forage suitability groups. Additional Criteria section was added for the three purposes added. The Considerations section was revised and updated to better represent the applicability of the standard. Plans and Specifications and References sections were updated to support the content and changes made.

Prescribed Burning (Code 338): This standard was last revised in 2010 and needed updating to reflect new policy and science. Definition was changed from controlled to planned to better reflect the practice. Added soil health to Purposes section. Criteria section changes included adding smoke management and reordered to reflect burn planning. Split Operations and Maintenance section to reflect the difference between during the burn and post burn. Added and updated References section.

Pumping Plant (Code 533): Formatting and writing style were updated to meet current agency requirements. Moved a few sentences to more appropriate sections of the practice. Minor revisions were made for clarity and readability purposes. The “Improve Air Quality” purpose was removed as it is addressed in NRCS CPS Combustion System Improvement (Code 372). Also removed “Additional Criteria for Improvement of Air Quality.” This should make it clear that this standard is not for the purpose of replacing, repowering, or retrofitting a combustion engine.

Riparian Forest Buffer (Code 391): Formatting and writing style were updated to meet current agency requirements. Minor revisions were made for clarity and readability purposes. The Purposes section was updated to better correlate with resource concerns. Criteria section was adjusted to match changes in purposes. The References section was updated.

Rock Wall Terrace (Code 555): The name of the standard was changed from “Rock Barrier” to “Rock Wall Terrace” to more accurately describe the practice. The purposes were revised to reflect the conservation resource concerns for installing the practice. Editorial changes were made throughout the document to improve clarity and to remove the reference to the old practice name. Three figures were added to graphically display the information in the text. The option of allowing the drainage from the terrace to outlet into a filtration area separately or in conjunction with an outlet channel was added. For a wall height greater than 3 feet, a requirement to include a stability analysis was added.

Row Arrangement (Code 557): Minor editorial changes to Purposes and Condition Where Practice Applies sections to provide clarity. The order of topics in Criteria section was changed to provide a better flow of information. Editorial changes were made to Considerations section to provide context and clarity. Reference was added.

Saline and Sodic Soil Management (Code 610): The name of the standard has changed slightly from “Salinity and Sodic Soil Management.” Minor revisions were made for clarity and readability purposes. The Criteria section was reordered to better match criteria to intended purposes.

Saturated Buffer (Code 604): Formatting and writing style were updated to meet current agency requirements. Moved a few sentences to more appropriate sections of the practice. Minor revisions were made for clarity and readability purposes. In “Conditions Where Practice Applies,” changes were made to expand the applicability of the standard by allowing the practice to be applied to subsurface drainage systems with surface inlets. If the system includes surface inlets, the practice applies only if the inlets are adequately protected to prevent entry of soil and debris capable of plugging the distribution pipes.

Spoil Disposal (Code 572): Changed the name from “Spoil Spreading” and changed the units from acres to cubic feet. The Definition section was broadened to include all construction activities. The Purposes section was rewritten to align with resource concerns and the Criteria section was simplified.

Spring Development (Code 574): Formatting and writing style were updated to meet current agency requirements. Moved text in Criteria section to better align with the subsections. Updated Plans and Specifications and Operation and Maintenance sections with concise text. Changed the Definitions section to exclude Purpose section language.

Stormwater Runoff Control (Code 570): Changed the Definition to systems to control the quantity and quality of stormwater runoff. Reworded to remove flooding and clarify where the practice is used. Added emphasis for infiltration of precipitation for use in ground water recharge. Allowed other measures in addition to vegetative measures.

Streambank and Shoreline Protection (Code 580): Formatting and writing style were updated to meet current agency requirements. Minor revisions were made for clarity and readability purposes. References were also updated.

Surface Drain, Field Ditch (Code 607): Formatting and writing style were updated to meet current agency requirements. Updated Criteria section to include responsibilities of the landowner and contractor to follow laws and regulations, obtain all necessary permits, and locate all utilities.

Terrace (Code 600): Minor revisions were made for clarity and readability purposes. Revised the Purpose section from “retain runoff for moisture conservation” to “manage runoff” which includes stormwater management. In General Criteria, the Alignment heading was moved to the top, slightly reworded, and NRCS CPS Contour Farming (Code 330) was referenced. Topsoiling was moved from Criteria to Considerations section as it is not always required. Removed sentences on underground outlets because NRCS CPS Underground Outlet (Code 620) is referenced and that guidance is located there. Updated Consideration section on establishing temporary cover on disturbed areas that will cropped.

Trails and Walkways (Code 575): Improved wording for clarity and readability. Added criteria for drain spacing and trail widths. Clarified what is to be provided in the Specifications section and updated the References section.

Tree/Shrub Site Preparation (Code 490): Formatting and writing style were updated to meet current agency requirements. Minor revisions were made for clarity and readability purposes. Criteria section was updated to add for avoiding or mitigating soil damage and hydrologic impacts, and for evaluating pesticide risks. A new consideration was added, plans and Specifications section was expanded to align with conservation plan requirements, and Operations and Maintenance section was expanded to include safety plans for chemical exposure. The References section was also updated.

Underground Outlet (Code 620): Minor rewording to improve readability. Clarified Criteria section on thrust blocking, bedding, and backfill requirements to evaluate for site-specific conditions. Revised Criteria section for maximum velocity in perforated drain tubing to 12 feet per second and maximum velocity in nonperforated pipe to follow manufacturer's recommendations. Under Outlet heading of the Criteria section, a table was added showing minimum lengths of outlet pipe required by pipe diameter. Considerations section was updated to add selecting vegetation species that are native, support pollinators, and wildlife as appropriate.

Vegetative Barrier (Code 601): Added new purpose, “Reduce ephemeral gully erosion” and reworded the last purpose. Changed the Conditions Where Practice Applies section to add gully erosion to the statement. Formatting and writing style were updated to meet current agency requirements. Changed table to add stem diameter (.35) and associated densities. Also changed the densities for the .5 diameter.

Water Harvesting Catchment (Code 636): Definition was revised to more clearly define practice. Purposes section was reworded to more directly relate to the stated resource concerns. Condition Where Practice Applies section was rewritten to clearly explain where practice may be used. Criteria section was revised and reordered to clearly explain the design requirements. Considerations section was rewritten to provide additional information for designers to consider when planning and designing the practice.

Watering Facility (Code 614): Minor revisions were made for clarity and readability purposes. Clarification added that this practice does not apply to embankment or excavated ponds. Requirements were added for backflow prevention when connecting to domestic or municipal water supplies. Requirements were added for fencing where fencing is needed.

Water Well (Code 642): This standard has undergone minimal changes. Changes in the Criteria section included adding a new “roles and responsibility,” “screen and filter pack installation,” and “well performance aquifer testing” criteria.

Well Decommissioning (Code 351): This standard has undergone minimal changes. Changes to the Criteria section include adding “Laws and Regulation,” “Roles and Responsibilities,” “Disinfection,” and “Sealing and Collapsible Formation.” Deleted “Casing Grouted in Place” criterion.

Matthew Lohr,
Chief, Natural Resources Conservation Service.

[FR Doc. 2020-06088 Filed 3-23-20; 8:45 am]

BILLING CODE 3410-16-P